DEPARTMENT OF ENERGY

Federal Energy Regulatory Commission

Combined Notice of Filings #1

Take notice that the Commission received the following electric rate filings:

Docket Numbers: ER11-1830-000; ER08-1317-003.

Applicants: California Independent System Operator Corporation.

Description: Interconnection Queue Quarterly Progress Report, Q3 2014, and Motion for Relief from Reporting Requirement of California Independent System Operator Corporation.

Filed Date: 10/30/14.

Accession Number: 20141030-5232.

Comments Due: 5 p.m. ET 12/24/14.

Docket Numbers: ER11-3391-003; ER11-4593-001; ER11-4592-001; ER11-4591-001; ER11-4589-001; ER10-2400-004.

Applicants: Dempsey Ridge Wind Farm, LLC, EcoGrove Wind LLC, Red Hills Wind Project, L.L.C., Blue Canyon Windpower LLC, Tatanka Wind Power, LLC, Nevada Solar One, LLC.

Description: Errata to November 3, 2014 Notice of Non-Material Change in Status of AENAC Sellers.

Filed Date: 12/17/14.

Accession Number: 20141217-5121.

Comments Due: 5 p.m. ET 1/7/15.

Docket Numbers: ER12-162-010; ER11-3876-013; ER11-2044-013; ER10-2611-011.

Applicants: Bishop Hill Energy II LLC, Cordova Energy Company LLC, MidAmerican Energy Company, Saranac Power Partners, L.P.

Description: Notification of Change in Status of the BHE MBR Sellers.

Filed Date: 12/16/14.

Accession Number: 20141216-5311.

Comments Due: 5 p.m. ET 1/6/15.

Docket Numbers: ER14-2952-001.

Applicants: Midcontinent Independent System Operator, Inc.

Description: Tariff Amendment per 35.17(b): 2014-12-17_Deficiency Response Amd Sch 43, 43G, 43H to be effective 12/1/2014.

Filed Date: 12/17/14.

Accession Number: 20141217-5154.

Comments Due: 5 p.m. ET 1/7/15.

Docket Numbers: ER15-406-001.

Applicants: LG&E Energy Marketing Inc.

Description: Tariff Amendment per 35.17(b): LEM Errata to MBR Tariff 205 Filing to be effective 11/15/2014.

Filed Date: 12/16/14.

Accession Number: 20141216-5274.

Comments Due: 5 p.m. ET 1/6/15.

Docket Numbers: ER15-535-001.

Applicants: Nevada Power Company.

Description: Compliance filing per 35: OATT Order No. 676-H Compliance Filing correction to be effective 2/2/2015.

Filed Date: 12/17/14.

Accession Number: 20141217-5156.

Comments Due: 5 p.m. ET 1/7/15.

Docket Numbers: ER15-567-001.

Applicants: NiGen, LLC.

Description: Second Supplement to December 10, 2014 NiGen, LLC tariff filing.

Filed Date: 12/16/14.

Accession Number: 20141216-5321.

Comments Due: 5 p.m. ET 12/26/14.

Docket Numbers: ER15-639-000.

Applicants: PJM Interconnection, L.L.C.

Description: § 205(d) rate filing per 35.13(a)(2)(iii): Revisions to Schedule 6 of the Operating Agreement re Proposal Window Fee to be effective 2/16/2015.

Filed Date: 12/16/14.

Accession Number: 20141216-5253.

Comments Due: 5 p.m. ET 1/6/15.

Docket Numbers: ER15-640-000.

Applicants: ISO New England Inc.

Description: ISO New England Inc. FCA 9 Imports Informational Filing.

Filed Date: 12/16/14.

Accession Number: 20141216-5313.

Comments Due: 5 p.m. ET 12/23/14.

Docket Numbers: ER15-641-000.

Applicants: Pacific Gas and Electric Company.

Description: Tariff Withdrawal per 35.15: Notice of Termination of California Flats Solar E&P Agreement to be effective 11/14/2014.

Filed Date: 12/17/14.

Accession Number: 20141217-5075.

Comments Due: 5 p.m. ET 1/7/15.

Docket Numbers: ER15-642-000.

Applicants: Midcontinent Independent System Operator, Inc., American Transmission Systems, Incorporation.

Description: § 205(d) rate filing per 35.13(a)(2)(iii): 2014-12-17_SA 2724 ATC-SWLP Transmission Upgrade Agreement to be effective 11/26/2014.

Filed Date: 12/17/14.

Accession Number: 20141217-5077.

Comments Due: 5 p.m. ET 1/7/15.

Docket Numbers: ER15-643-000.

Applicants: PJM Interconnection, L.L.C.

Description: § 205(d) rate filing per 35.13(a)(2)(iii): Revisions to OATT Att K-Appx and OA Schedule 1 re Energy and Reserve Pricing to be effective 3/1/2015.

Filed Date: 12/17/14.

Accession Number: 20141217-5079.

Comments Due: 5 p.m. ET 1/7/15.

Docket Numbers: ER15-644-000.

Applicants: Idaho Power Company.

Description: Compliance filing per 35: Resubmitted Order No. 676-H Waiver Request and Compliance Filing to be effective 2/1/2015.

Filed Date: 12/17/14.

Accession Number: 20141217-5136.

Comments Due: 5 p.m. ET 1/7/15.

Take notice that the Commission received the following electric reliability filings:

Docket Numbers: RD15-2-000.

Applicants: North American Electric Reliability Corp.

Description: Petition of the North American Electric Reliability Corporation for Approval of Proposed Reliability Standard PRC-006-2.

Filed Date: 12/15/14.

Accession Number: 20141215-5325.

Comments Due: 5 p.m. ET 1/16/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 17, 2014.
Nathaniel J. Davis, Sr.,
Deputy Secretary.

[FR Doc. 2014-30207 Filed 12-23-14; 8:45 am]

BILLING CODE 6717-01-P